FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR Part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Administrator, Federal Insurance and Mitigation Administration, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, flood insurance, reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) •Elevation in feet (NAVD)
ILLINOIS
Monroe County (Unincorporated Areas), City of Columbia (FEMA Docket No. D-7520)
Carr Creek:
Approximately 250 feet upstream of Bluff Road | *421
Approximately 700 feet upstream of Gall Road | *448
Monroe County (Unincorporated Areas), City of Columbia
Carr Creek Tributary:
At the confluence with Carr Creek | *444
Approximately 1,620 feet upstream of confluence with Carr Creek | *447
Palmer Creek:
Approximately 0.57 mile downstream of Ramsey Road | *402
At upstream side of Rueck Road | *456
Palmer Creek Tributary:
At the confluence with Palmer Creek | *432
Approximately 760 feet upstream of Quarry Road | *473
Rueck Creek:
At the confluence with Palmer Creek | *432
Approximately 0.83 mile upstream of confluence with Palmer Creek | *452
City of Columbia
Wilson Creek:
At the confluence with Carr Creek | *427
Approximately 550 feet upstream of South Main Street | *482
Monroe County (Unincorporated Areas)
Maps available for inspection at the Monroe County Zoning Office, Monroe County Courthouse, 100 South Main Street, Waterloo, Illinois.
———
City of Columbia
Maps available for inspection at the Columbia City Hall, 208 South Rapp Avenue, Columbia, Illinois.
KENTUCKY
City of Williamsburg, Whitley County (Unincorporated Areas) (FEMA Docket No. D-7540)
Cumberland River:
Approximately 2.1 miles upstream of State Route 25 West | *934
Approximately 7.7 miles upstream of State Route 25 West | *943
City of Williamsburg
Maps available for inspection at the City of Williamsburg Mayor's Office, 116 North Second Street, Williamsburg, Kentucky.
———
Whitley County (Unincorporated Areas)
Maps available for inspection at the Whitley County Courthouse, 310 Main Street, Williamsburg, Kentucky.
TENNESSEE
Carter County (Unincorporated Areas) (FEMA Docket No. D-7540)
Doe River:
Approximately 1,150 feet downstream of U.S. Highway 19E | *2,496
Approximately 1.3 miles upstream of Julian Road | *2,663
Carter County (Unincorporated Areas)
Doe River Overland Flow:
Approximately 175 feet upstream of the confluence with Doe River | *2,568
At divergence with Doe River | *2,585
Buck Creek:
At confluence with Shell Creek | *2,642
Approximately 1,775 feet upstream of Buck Creek Road | *2,692
Hampton Creek:
At confluence with Doe River | *2,597
Approximately 2 miles upstream of confluence with Doe River | *2,825
Shell Creek:
At confluence with Doe River | *2,576
Approximately 140 feet upstream of Ellis Hollow Road | *2,780
Carter County (Unincorporated Areas)
Maps available for inspection at the Carter County Courthouse, 801 East Elk Avenue, Elizabethton, Tennessee.
WISCONSIN
Winnebago County (Unincorporated Areas) (FEMA Docket No. D-7530), City of Oshkosh (FEMA Docket No. D-7530)
Arrowhead River:
Approximately 300 feet upstream of County Highway M | *751
Approximately 7,650 feet upstream of Woodland Road | *757
———
Winnebago County (Unincorporated Areas)
Wolf River:
Approximately 1.7 miles upstream of mouth at Lake Poygan | *751
At County boundary | *753
Mud Creek:
Approximately 250 feet downstream of county boundary | *744
At County boundary | *744
Eight Mile Creek:
At the confluence with Rush Creek | *817
Approximately 2,000 feet upstream of Knott Road | *844
Rush Creek:
At upstream side of State Highway 116 | *780
At the confluence of Eight Mile Creek | *817
Sawyer Creek:
Downstream side of North Westfield Street | *753
Approximately 1.2 miles upstream of Clairville Road | *811
Winnebago County (Unincorporated Areas), City of Oshkosh
Rush Lake:
Entire shoreline within community | *823
Winnebago County (Unincorporated Areas)
Waukau Creek:
At the confluence of Eight Mile Creek | *817
Approximately 1.8 miles upstream of confluence of Eight Mile Creek | *818
Maps available for inspection at the Winnebago County Zoning Office, 448 Algoma Boulevard, Oshkosh, Wisconsin.
———
City of Oshkosh
Maps available for inspection at the Oshkosh City Hall, 215 Church Avenue, Oshkosh, Wisconsin.

(Catalog of Federal Domestic Assistance No. 83.100, “Flood Insurance.”)

Dated: October 30, 2002.
Anthony S. Lowe,
Administrator, Federal Insurance and Mitigation Administration.

[FR Doc. 02-27965 Filed 11-1-02; 8:45 am]

BILLING CODE 6718-04-P